DEPARTMENT OF HOMELAND SECURITY

Federal Emergency Management Agency

[Docket ID FEMA-2019-0002; Internal Agency Docket No. FEMA-B-1942]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Greenlee | Unincorporated Areas of Greenlee County (18-09-1753P). | The Honorable Richard Lunt, Chairman, Board of Supervisors, Greenlee County, 253 5th Street, Clifton, AZ 85534. | Greenlee County, Planning and Zoning Department, 253 5th Street, Clifton, AZ 85534. | https://msc.fema.gov/portal/advanceSearch. | Oct. 3, 2019 | 040110
Maricopa | City of Buckeye (18-09-2110P). | The Honorable Jackie A. Meck, Mayor, City of Buckeye, 530 East Monroe Avenue, Buckeye, AZ 85326. | Engineering Department, 530 East Monroe Avenue, Buckeye, AZ 85326. | https://msc.fema.gov/portal/advanceSearch. | Oct. 4, 2019 | 040039
Maricopa | Unincorporated Areas of Maricopa County (18-09-2110P). | The Honorable Bill Gates, Chairman, Board of Supervisors, Maricopa County, 301 West Jefferson Street, 10th Floor, Phoenix, AZ 85003. | Flood Control District of Maricopa County, 2801 West Durango Street, Phoenix, AZ 85009. | https://msc.fema.gov/portal/advanceSearch. | Oct. 4, 2019 | 040037
Kansas:
Riley | City of Manhattan (18-07-1218P). | The Honorable Linda Morse, Mayor, City of Manhattan, 1101 Poyntz Avenue, Manhattan, KS 66502. | City Hall, 1101 Poyntz Avenue, Manhattan, KS 66502. | https://msc.fema.gov/portal/advanceSearch. | Sep. 18, 2019 | 200300
Riley | Unincorporated Areas of Riley County (18-07-1218P). | Mr. Ron Wells, Chairperson, Riley County, 3609 Anderson Avenue, Manhattan, KS 66503. | Riley County Office Building, 110 Courthouse Plaza, Manhattan, KS 66502. | https://msc.fema.gov/portal/advanceSearch. | Sep. 18, 2019 | 200298
Nevada: Clark | City of Las Vegas (18-09-1622P). | The Honorable Carolyn G. Goodman, Mayor, City of Las Vegas, City Hall, 495 South Main Street, Las Vegas, NV 89101. | Planning and Zoning Department, 333 North Rancho Drive, Las Vegas, NV 89106. | https://msc.fema.gov/portal/advanceSearch. | Oct. 4, 2019 | 325276
Oregon: Multnomah | City of Portland, (19-10-0138P). | The Honorable Ted Wheeler, Mayor, City of Portland, 1221 Southwest 4th Avenue, Room 340, Portland, OR 97204. | Bureau of Environmental Services, 1221 Southwest 4th Avenue, Room 230, Portland, OR 97204. | https://msc.fema.gov/portal/advanceSearch. | Oct. 7, 2019 | 410183
Texas: Tarrant | City of North Richland Hills, (19-06-0154P). | The Honorable Oscar Trevino, Jr., Mayor, City of North Richland Hills, 4301 City Point Drive, North Richland Hills, TX 76180. | City Hall, 4301 City Point Drive, North Richland Hills, TX 76180. | https://msc.fema.gov/portal/advanceSearch. | Sep. 30, 2019 | 480607
Virginia: Fairfax | Unincorporated Areas of Fairfax County (18-03-1211P). | Mr. Bryan Hill, Fairfax County Executive, 12000 Government Center Parkway, Fairfax, VA 22035. | Fairfax County Community Map Repository/Stormwater Planning, 12000 Government Center Parkway, Suite 449, Fairfax, VA 22035. | https://msc.fema.gov/portal/advanceSearch. | Sep. 30, 2019 | 515525

[FR Doc. 2019-14182 Filed 7-2-19; 8:45 am]

BILLING CODE 9110-12-P